DEPARTMENT OF THE INTERIOR

National Park Service

Benefits-Sharing Environmental Impact Statement, National Park Service

AGENCY: National Park Service, Department of the Interior.

ACTION: Notice of intent to prepare an Environmental Impact Statement (EIS) for the National Park Service (NPS) concerning the environmental impacts of implementing “benefits-sharing” agreements when information derived from research specimens collected from units of the National Park System results in commercial value.

SUMMARY: Pursuant to the provisions of the National Environmental Policy Act of 1969, the National Park Service is preparing an Environmental Impact Statement of potential environmental impacts of implementing “benefits-sharing” agreements for research projects that use research specimens lawfully collected from units of the National Park System. NPS authorizes the collection of research specimens from units of the National Park System for qualified scientific purposes under its regulations (36 CFR 1.6 and 2.5). Occasionally, such research also results in commercial applications. “Benefits-sharing” refers to the equitable and efficient exchange of valuable research results, and in some cases, economic resources, between researchers and their institutions or companies and the NPS. Through the Federal Technology Transfer Act of 1986 and other statutes, Congress has attempted to create incentives that optimize the social, environmental and economic benefits that can result from enhancing cooperative activities between Federal and private sector research organizations. In addition, the National Parks Omnibus Management Act of 1998 (Pub. L. 105-391) specifically authorizes the negotiation of “equitable, efficient benefits-sharing arrangements” between units of the National Park System and the research community.

NPS regulations provide that a park superintendent may issue a permit to a qualifying researcher when it is determined that “public health and safety, environmental or scenic values, natural or cultural resources, scientific research, implementation of management responsibilities, proper allocation and use of facilities, or the avoidance of conflict among visitor use activities will not be adversely impacted” (36 CFR 1.6(a)). Through a public process, this EIS will examine potential environmental impacts of various methods of implementing the provisions of law that authorize benefits-sharing agreements while ensuring the integrity of resources.

The NPS published a notice of intent in the Federal Register on June 25, 2001 (pages 33712-33713), to prepare an environmental assessment (EA) concerning the environmental impacts of implementing benefits-sharing agreements. Corrections to this notice were published in the Federal Register on July 11, 2001 (page 36368), and the scoping comment period was extended on July 27, 2001 (page 39197) through August 27, 2001. Based on public comments received during the scoping period for this EA, the NPS has decided to prepare an EIS.

If you commented during the EA scoping period (June 25-August 27, 2001) you do not need to re-submit your comments because they will be considered in the EIS. Additional comments may be submitted by any one of several methods. You may mail comments to: National Park Service, Benefits-Sharing Environmental Assessment, P.O. Box 168, Yellowstone National Park, WY 82190. You may also e-mail comments to BenefitsEIS@nps.gov, submit them online at www.nature.nps.gov/benefitssharing. Additional information is available online at www.nature.nps.gov/benefitssharing or by contacting: NPS Benefits Sharing Team, P.O. Box 168, Yellowstone National Park, WY, 82190; telephone 307-344-2203. NPS practice is to make comments, including the names and addresses of respondents, available for public review during regular business hours. Individual respondents may request that NPS withhold their addresses from the record, which will be honored to the extent allowable by law. There also may be circumstances in which NPS would withhold from the record a respondent's identity, to the extent allowable by law. If you wish the NPS to withhold your name and/or address, you must state this prominently at the beginning of your comments. NPS will make all submissions from organizations and businesses, and from individuals identifying themselves as representatives or officials or organizations or businesses, available for public inspection in their entirety.

DATES: Comments on the potential scope of the EIS, alternatives to be considered, impacts to be addressed, and any other relevant related issues should be submitted within 45 calendar days from the date of this notice.

For Further Information: contact Sue Mills, National Park Service Benefits Sharing Team, P.O. Box 168, Yellowstone National Park, WY 82190; telephone 307-344-2203.

Michael Soukup,
Associate Director, Natural Resources Stewardship and Science.

[FR Doc. 02-8941 Filed 4-11-02; 8:45 am]

BILLING CODE 4310-70-P